DEPARTMENT OF HOMELAND SECURITY

Coast Guard

46 CFR Parts 30, 150, and 153

[Docket No. USCG-2013-0423]

RIN 1625-AB94

2013 Liquid Chemical Categorization Updates; Correction

AGENCY: Coast Guard, DHS.

ACTION: Correcting amendments.

SUMMARY: On April 17, 2020, the Coast Guard published a final rule updating the Liquid Chemical Categorization tables. The final rule contained minor typographical errors. This document corrects those errors.

DATES: Effective May 18, 2020.

FOR FURTHER INFORMATION CONTACT: For information about this document call or email LT Jake Lobb, Coast Guard; telephone (202) 372-1428, email Jake.R.Lobb2@uscg.mil, or Dr. Raghunath Halder, Coast Guard; telephone (202) 372-1422, email Raghunath.Halder@uscg.mil.

SUPPLEMENTARY INFORMATION: On April 17, 2020, the Coast Guard published a final rule titled “2013 Liquid Chemical Categorization Updates” (85 FR 21660) that becomes effective May 18, 2020. A routine post-publication review by the Coast Guard revealed minor typographical errors, such as text that was incorrectly italicized or run together. The errors included one incorrect Group Number and one incorrect Related CHRIS Code in the tables. The Group Number does not correspond to any Group, and the Related CHRIS Code repeats the listed CHRIS Code instead of displaying a related code. These typographical errors are not substantive, and correcting them aligns the final text with the stated purpose of the rulemaking. Therefore, no additional notice and opportunity for public comment is required under 5 U.S.C. 553(b). For the same reasons, and to forestall any confusion caused by incorrect text, the Coast Guard finds good cause under 5 U.S.C. 553(d) to make the corrected text effective upon publication in the Federal Register.

Accordingly, in FR Doc. 2019-27628, appearing on page 21660 in the Federal Register of Friday, April 17, 2020, the following corrections are made:

Table 30.25-1 [Corrected]

1. On page 21666, in the entry for “2,6-Di-tert-butylphenol,” remove the italicized “t” and replace it with a non-italicized “t”.

2. On page 21668, revise the text “Latex (ammonia (1% or less) inhibited)” to read “Latex, ammonia (1% or less)-inhibited”.

Table 1 to Part 150 [Corrected]

3. On page 21674, in the entry for “Alcohol (C12-C13, branched and linear) poly(4-8) propoxy sulfates (alternately sulphates, sodium salt 25-30% solution” add a parenthesis at the end of “alternately sulphates”.

4. On page 21676, revise the text “Aluminum (alternately, Aluminium) chloride/Hydrochloric acid solution, see “Aluminum (alternately, Aluminium (chloride/Hydrogen chloride solution” to read as follows: “Aluminum (alternately, Aluminium) chloride/Hydrochloric acid solution, see Aluminum (alternately, Aluminium) chloride/Hydrogen chloride solution”.

5. On page 21684, in the entry for “Fatty Acids (saturated, C13+)”, change “334” in the “Group Number” column to “34”.

6. On page 21691, in the entry for “Olefin mixtures (C5-C7)”, change “OFX” in the “Related CHRIS Codes” column to “OFY”.

Table 2 to Part 150 [Corrected]

7. On page 21701, revise the amendatory language instruction 8. (u.) (xlv.) to read as follows:

8. * * *

u. * * *

xlv. A. Palm kernel acid oil, methyl ester

B. Palm kernel oil fatty acid

* * * * *

8. On page 21711, in section 30. OLEFINS, revise the text “Latex (ammonia (1% or less)-inhibited.” to read “Latex, ammonia (1% or less)-inhibited.”.

Dated: May 5, 2020.
J.E. McLeod,
Acting Chief, Office of Regulations and Administrative Law, U.S. Coast Guard.

[FR Doc. 2020-09958 Filed 5-7-20; 8:45 am]

BILLING CODE 9110-04-P